ENVIRONMENTAL PROTECTION AGENCY

40 CFR Part 52

[EPA-R05-OAR-2009-0118; FRL-9124-9]

Approval and Promulgation of Air Quality Implementation Plans; Indiana; Alternate Monitoring Requirements for Indianapolis Power and Light—Harding Street Station

AGENCY: Environmental Protection Agency (EPA).

ACTION: Direct final rule.

SUMMARY: Indiana requested on December 31, 2008, that EPA approve as a revision to its State Implementation Plan (SIP) alternative monitoring requirements for the Indianapolis Power and Light Company (IPL) at its Harding Street Generating Station. The alternative monitoring requirements allow the use of a particulate matter (PM) continuous emissions monitoring system (CEMS) in place of a continuous opacity monitor system (COMS).

DATES: This direct final rule will be effective June 14, 2010, unless EPA receives adverse comments by May 13, 2010. If adverse comments are received, EPA will publish a timely withdrawal of the direct final rule in the Federal Register informing the public that the rule will not take effect.

ADDRESSES: Submit your comments, identified by Docket ID No. EPA-R05-OAR-2009-0118, by one of the following methods:

• http://www.regulations.gov: Follow the on-line instructions for submitting comments.

• E-mail: damico.genevieve@epa.gov.

• Fax: (312) 385-5501.

• Mail: Genevieve Damico, Acting Chief, Criteria Pollutant Section, Air Programs Branch (AR-18J), U.S. Environmental Protection Agency, 77 West Jackson Boulevard, Chicago, Illinois 60604.

• Hand Delivery: Genevieve Damico, Acting Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2009-0118. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This Facility is open from 8:30 a.m. to 4:30 p.m., Monday through Friday, excluding Federal holidays. We recommend that you telephone Matt Rau, Environmental Engineer, at (312) 886-6524 before visiting the Region 5 office.

FOR FURTHER INFORMATION CONTACT: Matt Rau, Environmental Engineer, Criteria Pollutant Section, Air Programs Branch (AR-18J), Environmental Protection Agency, Region 5, 77 West Jackson Boulevard, Chicago, Illinois 60604, (312) 886-6524, rau.matthew@epa.gov.

SUPPLEMENTARY INFORMATION: Throughout this document whenever “we,” “us,” or “our” is used, we mean EPA. This supplementary information section is arranged as follows:

I. What Is the Background for This Action?

II. What Is EPA's Analysis of the Revision?

III. What Are the Environmental Effects of This Action?

IV. What Action Is EPA Taking?

V. Statutory and Executive Order Reviews

I. What Is the Background for This Action?

Indiana has requested a revision to its SIP that would authorize an alternative monitoring plan contained in a State Commissioner's Order for Unit 7 at IPL's Harding Street Station, located in Indianapolis (Marion County), Indiana. Indiana submitted its request to EPA on December 31, 2008. The alternative monitoring plan allows IPL to use a particulate matter CEMS in place of a COMS to demonstrate compliance with applicable PM limits.

IPL has installed a wet scrubber control device to control sulfur dioxide at its Harding Street Station Unit 7. The scrubber adds moisture to the exhaust gas, which condenses as the gas stream cools. According to Indiana Department of Environmental Management (IDEM), the condensation causes unreliable readings from the COMS on Unit 7. COMS measures opacity optically, so it cannot distinguish between light impairment caused by particulate and light impairment caused by moisture. The scrubber also removes some PM, so that placing the COMS prior to the exhaust entering the scrubber would also incorrectly measure those emissions from Unit 7.

IDEM has requested EPA approval of the alternative monitoring requirements under 326 IAC 3-5-1(c)(2)(A)(iii) of the SIP, which EPA approved on December 28, 2009 (74 FR 68541). This provision authorizes IDEM to approve an alternative monitoring requirement for fossil fuel-fired steam generators when IDEM determines that “installation of an opacity monitoring system would not provide accurate determinations of emissions as a result of interference from condensed uncombined water.” The PM CEMS will be placed after the scrubber. A PM CEMS with proper calibration should provide accurate PM emission readings, even with moisture from the scrubber in the exhaust stream. Indiana certified the Harding Street Station's PM CEMS on June 22, 2009.

The alternative monitoring plan for the Harding Street Station was adopted by Indiana on October 31, 2008, in Commissioner's Order #2008-02. It is not effective, however, until EPA approves the plan as a SIP revision. See 326 IAC 3-5-1(c)(2)(A)(iv).

Indiana notified the public of an opportunity to request a public hearing on this action on November 12, 2008. It did not receive any comments or requests for a public hearing.

II. What Is EPA's Analysis of the Revision?

Under the alternative monitoring plan approved by Indiana in Commissioner's Order #2008-02, IPL will continuously monitor PM emissions in place of opacity. The visible emissions exiting the stack are primarily composed of PM. Visible emissions observations under 40 CFR Part 60, Appendix A, Method 9 may be taken in the atmosphere after any moisture has condensed and left the plume. A COMS, like the one at the Harding Street Station, reads the opacity in the stack. The addition of a wet scrubber will remove pollutants from the exhaust, but will add moisture. This moisture condenses as the exhaust cools in the stack causing a higher opacity reading from the COMS. Installing the COMS to read the opacity before the scrubber would also not give an accurate measurement of the facility's emissions because the COMS would not reflect any emission reductions from the scrubber.

The PM CEMS will be calibrated to provide accurate measurements even with moisture in the stack. The PM CEMS provides the particulate emissions from the facility. Knowing the emissions from the facility, IPL will be able to make adjustments or control device repairs should the emissions rise too high. This facility will average the PM CEMS data at time intervals specified in its Title V permit. IPL is also required to monitor other pollutants and their operating parameters. The alternate monitoring requirement removes the need to operate the COMS, but does not remove the opacity limits at the facility under SIP rules 326 IAC 5-1. Visible emissions observations in accordance with Method 9 can still be made to determine whether the opacity limits are being met.¹

¹ The Commissioner's Order also contains a section granting a variance to IPL for the period of time between the completion of the CEMS certification and EPA's approval of the alternative opacity monitoring plan. As noted in the variance provision: “This is a variance from State law only and does not change Federally approved SIP requirements.” Order at 4.

III. What Are the Environmental Effects of This Action?

PM interferes with lung function when inhaled. Exposure to PM can cause heart and lung disease. It also aggravates asthma. Airborne particulate is also a source of haze, which reduces visibility. PM deposited on the ground and in the water harms the environment by changing the nutrient and chemical balance.

This action only changes the PM monitoring requirements for Unit 7 at the Harding Street Station. All other applicable air pollution control requirements remain in place. No changes in any emissions from the Harding Street Station are expected as a result of this action.

IV. What Action Is EPA Taking?

EPA is approving the alternative monitoring plan in Commissioner's Order #2008-02 into the Indiana SIP. The alternative monitoring plan for IPL's Harding Street Station is to use a PM CEMS on Unit 7 in place of a COMS. This action is consistent with Indiana SIP rule 326 IAC 3-5-1(c)(2)(A)(iii) because moisture in the facility's exhaust stream could cause inaccurate opacity readings from a COMS.

We are publishing this action without prior proposal because we view this as a noncontroversial amendment and anticipate no adverse comments. However, in the proposed rules section of this Federal Register publication, we are publishing a separate document that will serve as the proposal to approve the State plan if relevant adverse written comments are filed. This rule will be effective June 14, 2010 without further notice unless we receive relevant adverse written comments by May 13, 2010. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective June 14, 2010.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have Tribal implications as specified by Executive Order 13175 (65 FR 67249, November 9, 2000), because the SIP is not approved to apply in Indian country located in the State, and EPA notes that it will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 14, 2010. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Particulate matter, Reporting and recordkeeping requirements.

Dated: February 25, 2010.
Walter W. Kovalick Jr.,
Acting Regional Administrator, Region 5.

40 CFR part 52 is amended as follows:

PART 52—[AMENDED]

1. The authority citation for part 52 continues to read as follows:

Authority: 42 U.S.C. 7401 et seq.

Subpart P—Indiana

2. Section 52.770 is amended by adding paragraph (c)(194) to read as follows:

§ 52.770 Identification of plan.

* * * * *

(c) * * *

(194) On December 31, 2008, Indiana submitted a Commissioner's Order that provided an alternative monitoring plan for Indianapolis Power and Light—Harding Street Generating Station in Marion County that is being incorporated into its SIP. The alternative monitoring requirements allow the use of a particulate matter continuous emissions monitoring system in place of a continuous opacity monitor.

(i) Incorporation by reference. Commissioner's Order #2008-02 for Indianapolis Power and Light as issued by the Indiana Department of Environmental Management on October 31, 2008.

[FR Doc. 2010-8295 Filed 4-12-10; 8:45 am]

BILLING CODE 6560-50-P